DEPARTMENT OF TRANSPORTATION

Federal Railroad Administration

Petition for Waiver of Compliance

In accordance with Title 49, Code of Federal Regulations (CFR), Sections 211.9 and 211.41, notice is hereby given that the Federal Railroad Administration (FRA) has received a request for a waiver of compliance with certain requirements of Federal railroad safety regulations. The petition is described below, including the party seeking relief, the regulatory provisions involved, the nature of the relief being requested and the petitioner's arguments in favor of relief.

Union Pacific Railroad Company

[Waiver Petition Docket Number FRA-2006-25862]

On October 6, 2007, FRA granted the Union Pacific Railroad Company (UP) a temporary conditional waiver from certain provisions of 49 CFR part 240 (Qualification and Certification of Locomotive Engineers). The regulatory relief was granted in connection with implementation of a Close Call Reporting System (C3RS) Demonstration Pilot Project involving UP's North Platt Service Unit. The C3RS Demonstration Pilot Project is sponsored by FRA's Office of Research and Development and is one of the action items included in FRA's Rail Safety Action Plan initiated in 2006. Background documentation related to the existing regulatory relief granted is available under Docket Number FRA-2006-25862, available online at http://www.regulations.gov.

In 2008, FRA amended 49 CFR part 218 (Railroad Operating Practices) to include Subpart F pertaining to handling equipment, switches, and fixed derails. In its current request, UP has asked that FRA amend the existing waiver in this docket to provide relief from certain provisions of Subpart F of Part 218. Specifically, for properly reported close call events, UP requests relief from the requirements of: 49 CFR 218.99(b)-(e), 218.101(b)-(c), 218.103(b)-(d), 218.105(b)-(d), 218.107(b)-(c), and 218.109(b)-(c).

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2006-25862) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal Holidays.

Communications received within 15 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC, on July 16, 2009.
Grady C. Cothen, Jr.,
Deputy Associate Administrator for Safety Standards and Program Development.

[FR Doc. E9-17317 Filed 7-21-09; 8:45 am]

BILLING CODE 4910-06-P